ENVIRONMENTAL PROTECTION AGENCY

[FRL-7885-5]

Clean Air Act Advisory Committee (CAAAC)/Clean Air Excellence Awards Program; Notice of Meeting

AGENCY: Environmental Protection Agency.

ACTION: Notice.

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

DATES: Open meeting notice: Pursuant to 5 U.S.C. App. 2 Section 10(a)(2), notice is hereby given that the Clean Air Act Advisory Committee will hold its next open meeting on Friday, April 8, 2005, from approximately 8:30 a.m. to 3:30 p.m. at the Renaissance Mayflower Hotel, 1127 Connecticut Avenue, NW., Washington, DC. Seating will be available on a first come, first served basis. Subcommittee meetings will be held on April 7, 2005 from approximately 8:30 a.m to 4:30 p.m. at the Renaissance Mayflower Hotel, the same location as the full Committee. The Mobile Source Technical Review subcommittee and the Linking Land Use, Transportation and Air Quality subcommittee will not meet at this time. The 2004 Clean Air Excellence Awards Program will follow the subcommittee meetings on April 7 at the same location. EPA established this annual awards program to recognize outstanding and innovative efforts that support progress in achieving clean air. The agenda for the full committee meeting will be posted on the CAAAC Web site: http://www.epa.gov/oar/caaac/.

Inspection of Committee Documents: The Committee agenda and any documents prepared for the meeting will be publicly available at the meeting. Thereafter, these documents, together with CAAAC meeting minutes, will be available by contacting the Office of Air and Radiation Docket and requesting information under docket OAR-2004-0075. The Docket office can be reached by telephoning 202-260-7548; FAX 202-260-4400.

FOR FURTHER INFORMATION CONTACT: Concerning the CAAAC, please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittee meetings, please contact the following individuals: (1) Permits/NSR/Toxics Integration—Debbie Stackhouse, 919-541-5354; and (2) Air Quality Management—Jeff Whitlow 919-541-5523 (3) Economic Incentives and Regulatory Innovations—Carey Fitzmaurice, 202-564-1667. Additional Information on these meetings, CAAAC, its Subcommittees and the Clean Air Excellence Awards Program can be found on the CAAAC Web site: http://www.epa.gov/oar/caaac/.

Dated March 10, 2005.
Robert D. Brenner,
Principal Deputy Assistant Administrator, for Air and Radiation.

[FR Doc. 05-5321 Filed 3-16-05; 8:45 am]

BILLING CODE 6560-50-P